NUCLEAR REGULATORY COMMISSION

[Docket No. 50-247]

Entergy Nuclear Operations, Inc.; Notice of Consideration of Issuance of Amendment to Facility Operating License and Opportunity for a Hearing

The U.S. Nuclear Regulatory Commission (NRC or the Commission) is considering issuance of an amendment to Facility Operating License No. DPR-26 issued to Entergy Nuclear Operations, Inc. (ENO or the licensee) for operation of the Indian Point Nuclear Generating Unit No. 2 (IP2), located in Westchester County, New York.

The proposed amendment, requested by ENO in a letter dated March 27, 2002, as supplemented by letters dated May 30, 2002, July 10, 2002, October 10, 2002, October 28, 2002, November 26, 2002, December 18, 2002, January 6, 2003, January 27, 2003, February 26, 2003, April 8, 2003, May 19, 2003, June 23, 2003, June 26, 2003, July 15, 2003, August 6, 2003, and September 11, 2003, represents a full conversion from the Current Technical Specifications (CTS) to a set of Improved Technical Specifications (ITS) based on NUREG-1431, “Standard Technical Specifications (STS) for Westinghouse Plants,” Revision 2, dated April 2001. NUREG-1431 has been developed by the Commission's staff through working groups composed of both NRC staff members and industry representatives, and has been endorsed by the staff as part of an industry-wide initiative to standardize and improve the Technical Specifications (TSs) for nuclear power plants. As part of this submittal, the licensee has applied the criteria contained in the Commission's “Final Policy Statement on Technical Specification Improvements for Nuclear Power Reactors (Final Policy Statement),” published in the Federal Register on July 22,1993 (58 FR 39132), to the CTS and using NUREG-1431 as a basis, proposed an ITS for IP2. The criteria in the Final Policy Statement was subsequently added to 10 CFR 50.36, “Technical Specifications,” in a rule change that was published in the Federal Register on July 19, 1995 (60 FR 36953) and became effective on August 18, 1995.

The licensee has categorized the proposed changes to the CTS into four general groupings. These groupings are characterized as administrative changes, relocated changes, more restrictive changes and less restrictive changes.

Administrative changes are those that involve restructuring, renumbering, rewording interpretation and complex rearranging of requirements and other changes not affecting technical content or substantially revising an operating requirement. The reformatting, renumbering and rewording process reflects the attributes of NUREG-1431 and does not involve technical changes to the CTS. The proposed changes include: (a) Providing the appropriate numbers, etc., for NUREG-1431 bracketed information (information that must be supplied on a plant-specific basis, and which may change from plant to plant), (b) identifying plant-specific wording for system names, etc., and (c) changing NUREG-1431 section wording to conform to existing licensee practices. Such changes are administrative in nature and do not impact initiators of analyzed events or assumed mitigation of accident or transient events.

Relocated changes are those involving relocation of requirements and surveillances for structures, systems, components, or variables that do not meet the criteria for inclusion in TSs. Relocated changes are those CTS requirements that do not satisfy or fall within any of the four criteria specified in the 10 CFR 50.36(c)(2)(ii) and may be relocated to appropriate licensee-controlled documents.

The licensee's application of the screening criteria is described in the attachment of the licensee's March 26, 2002, submittal, which is entitled, “Application of NRC Selection Criteria, Including the CTS to ITS Disposition and Relocation Matrix” (Split Report) in Volume 1 of the submittal. The affected structures, systems, components or variables are not assumed to be initiators of analyzed events and are not assumed to mitigate accident or transient events. The requirements and surveillances for these affected structures, systems, components, or variables will be relocated from the TSs to administratively controlled documents such as the quality assurance program, the final safety analysis report (FSAR), the ITS Bases, the Technical Requirements Manual that is incorporated by reference in the FSAR, the Core Operating Limits Report, the Offsite Dose Calculation Manual, the Inservice Testing (IST) Program, or other licensee-controlled documents. Changes made to these documents will be made pursuant to 10 CFR 50.59 or other appropriate control mechanisms, and may be made without prior NRC review and approval. In addition the affected structures, systems, components, or variables are addressed in existing surveillance procedures that are also subject to 10 CFR 50.59. These proposed changes will not impose or eliminate any requirements.

More restrictive changes are those involving more stringent requirements compared to the CTS for operation of the facility. These more stringent requirements do not result in operation that will alter assumptions relative to the mitigation of an accident or transient event. The more restrictive requirements will not alter the operation of process variables, structures, systems, and components described in the safety analyses. For each requirement in the STS that is more restrictive than the CTS that the licensee proposes to adopt in the ITS, the licensee has provided an explanation as to why it has concluded that adopting the more restrictive requirement is desirable to ensure safe operation of the facility because of specific design features of the plant.

Less restrictive changes are those where CTS requirements are relaxed or eliminated, or new plant operational flexibility is provided. The more significant “less restrictive” requirements are justified on a case-by-case basis. When requirements have been shown to provide little or no safety benefit, their removal from the TSs may be appropriate. In most cases, relaxations previously granted to individual plants on a plant-specific basis were the result of (a) generic NRC actions, (b) new NRC staff positions that have evolved from technological advancements and operating experience, or (c) resolution of the Owners Groups' comments on the Improved Standard Technical Specifications. Generic relaxations contained in NUREG-1431 were reviewed by the NRC staff and found to be acceptable because they are consistent with current licensing practices and NRC regulations. The licensee's design is being reviewed to determine if the specific design basis and licensing basis are consistent with the technical basis for the model requirements in NUREG-1431, thus providing a basis for the ITS, or if relaxation of the requirements in the CTS is warranted based on the justification provided by the licensee.

These administrative, relocated, more restrictive, and less restrictive changes to the requirements of the CTS do not result in operations that will alter assumptions relative to mitigation of an analyzed accident or transient event.

In addition to the proposed changes solely involving the conversion, there are also changes proposed that are different from the requirements in both the CTS and the STS NUREG-1431. These beyond scope issues to the conversion, listed in the order of the applicable ITS specification or section, as appropriate (from ITS 3.6.9 to ITS 3.8.7) are as follows:

1. The licensee added ITS Limiting Condition for Operation (LCO) 3.6.9—Isolation Valve Seal Water System to the proposed IP2 ITS. NUREG-1431 does not include an STS for this system, because very few plants have this kind of system. The CTS provides a base set of requirements which the staff will use to evaluate the licensee's proposed change for parameters such as allowable out-of-service time and surveillance requirements.

2. The licensee added ITS LCO 3.6.10—Weld Channel and Penetration Pressurization System (WC&PPS) to the proposed IP2 ITS. The WC&PPS is designed to continuously pressurize the space between selected containment isolation valves, containment piping penetration barriers, and most of the weld seam channels installed on the inside of the containment liner. Pressurization by the WC&PPS provides a means of monitoring the containment leakage of the affected barriers. WC&PPS pressure is maintained above Pa[atmospheric pressure], so the system may also reduce out leakage from the containment during an accident, although it is not credited for doing so. There are no regulatory requirements or guidance for this system. NUREG-1431 does not include an STS for this system, because very few plants have this kind of system.

3. The licensee added ITS 3.7.2—Main Steam Isolation Valves (MSIVs) and Main Steam Check Valves (MSCVs) to the proposed IP2 ITS. CTS 3.4B allows all 4 MSIVs to be inoperable for up to 72 hours prior to requiring initiation of plant shutdown. The proposed ITS LCO 3.7.2, required action C.1, allows only one MSIV to be inoperable for up to 72 hours prior to requiring initiation of a plant shutdown. If more than one MSIV is inoperable in Mode 1 (and not closed); ITS LCO 3.03 is immediately applicable and a plant shutdown must be initiated within 1 hour. Proposed ITS 3.7.2 deviates from STS 3.7.2 which allows all 4 MSIVs to be inoperable for up to 72 hours prior to requiring initiation of plant shutdown.

4. The licensee proposed ITS LCO 3.7.3 for Main Feedwater Isolation to add requirement for operability, allowable out of service times and surveillance requirements (SR) which are deviations from the Scope of STS conversion.

5. The licensee proposed ITS LCO 3.7.8 of 72 hours allowed out of service time which is less restrictive (i.e., longer) than the STS allowed out of service time of 12 hours, without adopting NUREG-1431, STS LCO 3.7.8 Notes 1 and 2, for the service water pumps.

6. The licensee proposed ITS LCO 3.8.1 to replace the current CTS 3.7 and requires that onsite and offsite electrical power systems are operable in Modes 1, 2, 3, and 4. Current requirements of CTS 3.7 specify that requirements for onsite and offsite electrical power systems are applicable only when the reactor is critical and, therefore requires only that the reactor be made subcritical when requirements are not met. CTS 4.6 do not establish any requirements for the periodic verification of correct breaker alignment and indicated power availability for offsite circuits.

7. The licensee proposed the following SRs for ITS LCO 3.8.3—Diesel Fuel Oil and Starting Air:

(a) ITS SR 3.8.3.1 requirement for verification regarding the emergency diesel generator fuel oil inventory in the fuel oil storage tanks is relaxed.

(b) Proposed ITS does not adopt STS SR 3.8.3.2 requirement for verification regarding the lube oil inventory; and

(c) The licensee added new sections to specify a range of pressure limits and impose LCOs and SRs for the starting air receivers. CTS does not currently have these requirements.

8. The licensee proposed ITS LCO 3.8.4, “DC Sources—Operating” and associated ITS SR 3.8.4 which are less restrictive than CTS 3.7.B.5 and CTS 3.7.B.6. CTS 3.7.B.5 and CTS 3.7.B.6 allow one of the four batteries to be inoperable for 24 hours if the associated charger is operable or allow one of the four chargers to be inoperable for 24 hours if the associated battery is operable.

9. The licensee originally proposed ITS LCO 3.8.6 which did not include a requirement to verify battery float current every 7 days in accordance with STS 3.8.6, but required 7 days with associated conditions. The original proposed ITS 3.8.6 was a deviation from STS 3.8.6 that specified the 7-day interval requirement.

10. The licensee originally proposed ITS LCO 3.8.7, “Inverter—Operating” originally limits the time the inverter may be inoperable to 7 days in its March 27, 2002, submittal in lieu of 24 hours as recommended by NUREG-1431. The staff was concerned that the 7-day LCO was too long and also was not consistent with NUREG-1431.

11. The licensee proposed ITS 5.5.11, “Diesel Fuel Oil Testing Program,” which is a deviation from STS 5.5.13. The current CTS and UFSAR do not have any requirements for testing diesel fuel oil. Proposed ITS 5.5.11 adds a new program, “Diesel Fuel Oil Testing,” to require that a diesel fuel oil testing program is maintained with specific TS requirements for acceptance criteria and testing frequency.

IP2 design and licensing basis requires that each DG has an onsite underground storage tank containing oil for 48 hours of minimum safeguards load and a DG fuel oil reserve with sufficient fuel to support an additional 5 days of operation. ITS 5.5.11 will establish separate fuel oil testing programs for onsite underground storage tanks and the DG fuel oil reserve tanks. The proposed ITS adds to the Administrative Control Section of the TS a new diesel fuel oil testing program. It also incorporates several editorial changes in order to make the ITS consistent with the STS. With a few exceptions, this program follows the requirements specified in the STS.

Before issuance of the proposed license amendments, the Commission will have made findings required by the Atomic Energy Act of 1954, as amended (the Act) and the commission's regulations.

By October 27, 2003, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.714, which is available at the Commission's Public Document Room, located at One White Flint North, Public File Area 01 F21, 11555 Rockville Pike (first floor), Rockville, Maryland, or electronically on the Internet at the NRC Web site http://www.nrc.gov/NRC/CFR/index.html. If there are problems in accessing the document, contact the Public Document Room Reference staff at 1-800-397-4209, 301-415-4737, or by e-mail to pdr@nrc.gov. If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) The nature of the petitioner's right under the Act to be made a party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

A request for a hearing and petition for leave to intervene must be filed with the Secretary of the Commission, U.S. Nuclear Regulatory Commission, Washington, DC 20555-0001, Attention: Rulemakings and Adjudications Staff, or may be delivered to the Commission's Public Document Room, located at One White Flint North, 11555 Rockville Pike (first floor), Rockville, Maryland, by the above date. A copy of the petition should also be sent to the Office of the General Counsel, U.S. Nuclear Regulatory Commission, Washington, DC 20555-0001, and to Mr. David E. Blabey, attorney for the licensee.

Nontimely filings of petitions for leave to intervene, amended petitions, supplemental petitions and/or requests for hearing will not be entertained absent a determination by the commission, the presiding officer or the presiding Atomic Safety and Licensing Board that the petition and/or request should be granted based upon a balancing of the factors specified in 10CAR 2.714(a)(1)(l)-(v) and 2.714(d).

If a request for a hearing is received, the Commission's staff may issue the amendment after it completes its technical review and prior to the completion of any required hearing if it publishes a further notice for public comment of its proposed finding of no significant hazards consideration in accordance with 10 CFR 50.91 and 50.92. For further details with respect to the proposed action, see the licensee's application dated March 27, 2002, as supplemented by letters dated May 30, 2002, July 10, 2002, October 10, 2002, October 28, 2002, November 26, 2002, December 18, 2002, January 27, 2003, February 26, 2003, April 8, 2003, May 19, 2003, June 23, 2003, June 26, 2003, July 15, 2003, August 6, 2003, and September 11, 2003. Documents may be examined, and/or copied for a fee, at the NRC's Public Document room, located at One White Flint North, Public File Area 01 F21, 11555 Rockville Pike (first floor), Rockville, Maryland. Publicly available records will be accessible electronically from the Agencywide Documents Access and Management Systems (ADAMS) Public Electronic Reading Room on the Internet at the NRC Web site, http\\www.nrc.gov. If you do not have access to ADAMS or if there are problems in accessing the documents located in ADAMS, contact the NRC Public Document Room (PDR) Reference staff at 1-800-397-4209, 301-415-4737 or by e-mail to pdr@nrc.gov.

Dated at Rockville, Maryland, this 17th day of September, 2003.
For the Nuclear Regulatory Commission.
Guy S. Vissing,
Sr. Project Manager, Section 1, Project Directorate I, Division of Licensing Project Management, Office of Nuclear Reactor Regulation.

[FR Doc. 03-24356 Filed 9-25-03; 8:45 am]

BILLING CODE 7590-01-P